DEPARTMENT OF HOMELAND SECURITY

Coast Guard

33 CFR Part 165

[Docket No. USCG-2025-0560]

Safety Zones; Fireworks Displays in the Fifth Coast Guard District, Ocean City, NJ

AGENCY: Coast Guard, DHS.

ACTION: Notification of enforcement of regulation.

SUMMARY: The Coast Guard will enforce a safety zone for the Ocean City “Night in Venice” Fireworks Display to provide for the safety of life on navigable waterways during this event. Our regulation for marine events within the Fifth Coast Guard District identifies the regulated area for this event in Ocean City, NJ. During the enforcement periods, the operator of any vessel in the regulated area must comply with directions from the Patrol Commander or any Official Patrol displaying a Coast Guard ensign.

DATES: The regulations in 33 CFR 165.506 for event 13 in table 1 to paragraph (h)(1) will be enforced from 9:15 p.m. until 10 p.m., on July 26, 2025.

FOR FURTHER INFORMATION CONTACT: If you have questions about this notification of enforcement, call or email MST2 Emmanuel E. Melendez, Waterways Management Division, Sector Delaware Bay, U.S. Coast Guard; telephone 206-815-6688, option 3, email SecDelBay@uscg.mil.

SUPPLEMENTARY INFORMATION: The Coast Guard will enforce the safety zone in entry No. 13 of table 1 to paragraph (h)(1) to 33 CFR 165.506 for a fireworks display on July 26, 2025, from 9:15 p.m. to 10 p.m. This action is being taken to provide for the safety of life on navigable waterways during the fireworks display. The regulated area includes all waters of the Great Egg Harbor Bay within a 300-yard radius of the fireworks barge position. The approximate position for the display is latitude 39°17′24″ N, longitude 074°34′31″ W, adjacent to shoreline of Ocean City, NJ. During the enforcement period, as reflected in § 165.506(d), vessels may not enter, remain in, or transit through the safety zone unless authorized by the Captain of the Port or designated Coast Guard patrol personnel on-scene.

In addition to this notification of enforcement in the Federal Register, the Coast Guard plans to provide notification of this enforcement period via the Local Notice to Mariners and marine information broadcasts.

Kate F. Higgins-Bloom,
Captain, U.S. Coast Guard, Captain of the Port, Sector Delaware Bay.

[FR Doc. 2025-13570 Filed 7-17-25; 8:45 am]

BILLING CODE 9110-04-P